DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collections and the expected burden. The Federal Register Notices with a 60-day comment period soliciting comments on the following collections of information were published as follows: 2120-0597 on June 12, 2002, page 40373, and 2120-0049 and 2120-0552 on September 19, 2002, page 59089.

DATES: Comments must be submitted on or before January 27, 2003. A comment to OMB is most effective if OMB receives it within 30 days of publication.

FOR FURTHER INFORMATION CONTACT: Judy Street on (202) 267-9895.

SUPPLEMENTARY INFORMATION:

Federal Aviation Administration (FAA)

1. Title: Application for Employment with the Federal Aviation Administration.

Type of Request: Extension of a currently approved collection.

OMB Control Number: 2120-0597.

Forms(s) FAA Form 27152.

Affected Public: A total of 50,000 applicants.

Abstract: This collection of information is necessary for gathering data concerning potential new hires for the FAA. The information will be used to evaluate the qualifications of applicants for a variety of positions. Without this information there would be no reliable means to accurately evaluate applicants' skills, knowledge, and abilities to perform the duties of these positions.

Estimated Annual Burden Hours: An estimated 75,000 hours annually.

2. Title: Agricultural Aircraft Operator Certificate Application.

Type of Request: Extension of a currently approved collection.

OMB Control Number: 2120-0049.

Forms(s): FAA Form 8710-3.

Affected Public: A total of 3,980 operators of agricultural aircraft.

Abstract: Standards have been established for the operation of agricultural aircraft for the dispensing of chemicals, pesticides, and toxic substances. The information collected demonstrates the applicant's compliance and eligibility for certification by the FAA.

Estimated Annual Burden Hours: An estimated 14,037 hours annually.

3. Title: Suspected Unapproved Parts Notification.

Type of Request: Extension of a currently approved collection.

OMB Control Number: 2120-0552.

Forms(s): FAA Form 8120-11.

Affected Public: A total of 400 manufacturers, repair stations, and aircraft operators.

Abstract: The information collected on FAA Form 8120-11 will be reported voluntarily by manufacturers, repair stations, aircraft owners/operators, and the general public who wish to report suspected “unapproved” parts to the FAA for review. The information will be used to determine if an “unapproved” part investigation is warranted.

Estimated Annual Burden Hours: An estimated 60 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on December 19, 2002.
Judith D. Street,
FAA Information Collection Clearance Officer Standards and Information Division, APF-100.

[FR Doc. 02-32704 Filed 12-26-02; 8:45 am]

BILLING CODE 4910-13-M